FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 003772F.

Name: A.T.I., U.S.A., Inc.

Address: 1201 Corbin Street, Elizabeth, NJ 07201.

Date revoked: September 6, 2004.

Reason: Failed to maintain a valid bond.

License Number: 004523F.

Name: Ronald A. Pfeiffer dba Auto Shipping International.

Address: 6 Butternut Lane, Monroe, NJ 08831.

Date Revoked: September 1, 2004.

Reason: Surrendered license voluntarily.

License Number: 002983F.

Name: Ben-G Incorporated.

Address: 460 E. Carson Plaza Drive, Suite 105, Carson City, CA 90746.

Date Revoked: September 1, 2004.

Reason: Failed to maintain a valid bond.

License Number: 018601NF.

Name: Commercial Cargo Carriers, Inc.

Address: 3305 Spring Mountain Road, Suite 24, Las Vegas, NV 89102.

Date Revoked: September 1, 2004.

Reason: Failed to maintain valid bonds.

License Number: 004193F.

Name: EMC Shipping, Inc.

Address: 810 Third Avenue, Seattle, WA 98104.

Date Revoked: August 10, 2004.

Reason: Surrendered license voluntarily.

License Number: 018052N.

Name: International Ocean Logistics, Inc.

Address: 9390 NW 23rd Street, Pembroke Pines, FL 33024.

Date Revoked: August 21, 2004.

Reason: Failed to maintain a valid bond.

License number: 017194F.

Name: Joseph B. Hohenstein dba Joseph B. Hohenstein Customhouse Brokers.

Address: 645 Indian Street, Suite 209, Savannah, GA 31401.

Date revoked: August 16, 2004.

Reason: Failed to maintain a valid bond.

License Number: 018380F.

Name: MCS Cargo Systems, Inc. dba Expedite America Express.

Address: 2688 Coyle Lane, Elk Grove Village, IL 60007.

Date Revoked: August 18, 2004.

Reason: Failed to maintain a valid bond.

License Number: 018620NF.

Name: Motherlines, Inc.

Address: 11 Sunrise Plaza, Suite 301, Valley Stream, NY 11580.

Date Revoked: August 22, 2004.

Reason: Failed to maintain valid bonds.

License Numer: 015862N.

Name: NW Express, Inc.

Address: 5250 W. Century Blvd., Suite 634, Los Angeles, CA 90045.

Date Revoked: August 17, 2004.

Reason: Failed to maintain a valid bond.

License Number: 016918N.

Name: Port of Palm Cold Storage, Inc.

Address: 1016 Clemons Street, Suite 400, Jupiter, FL 33477.

Date Revoked: August 22, 2004.

Reason: Failed to maintain a valid bond.

License Number: 015093N.

Name: Prestige Shipping, Inc.

Address: 7270 NW 12th Street, Suite 381, Miami, FL 33126.

Date Revoked: August 29, 2004.

Reason: Failed to maintain a valid bond.

License Number: 002355NF.

Name: Pro-Service Forwarding Co., Inc.

Address: 8915 S. La Cienega Boulevard, Inglewood, CA 90301.

Date Revoked: August 18, 2004.

Reason: Failed to maintain valid bonds.

License Number: 004462F.

Name: R S Exports, Inc.

Address: 8621 Bellanca Avenue, Suite 201, Los Angeles, CA 90045.

Date Revoked: August 27, 2004.

Reason: Failed to maintain a valid bond.

License Number: 017437F.

Name: Shoreline Express, Inc.

Address: 13231 Eastern Avenue, Suite No. 3, Palmetto, FL 34221.

Date Revoked: August 28, 2004.

Reason: Failed to maintain a valid bond.

Sandra L. Kusumoto,
Director, Bureau of Consumer Complaints and Licensing.

[FR Doc. 04-21213 Filed 9-20-04; 8:45 am]

BILLING CODE 6730-01-P